NATIONAL AERONAUTICS AND SPACE ADMINISTRATION

[Notice (02-028)]

Notice of Prospective Patent License

AGENCY: National Aeronautics and Space Administration.

ACTION: Notice of prospective patent license.

SUMMARY: NASA hereby gives notice that Makel Engineering, Inc., of Chico, California, has applied for an exclusive license to practice the inventions disclosed in U.S. Patent No. 5,520,753 entitled “PdTi Metal Alloy as Hydrogen or Hydrocarbon Sensitive Metal,” (NASA Case No. 15,956-1); and U.S. Patent No. 5,668,301 entitled “Method and Apparatus for the Detection of Hydrogen Using a Metal Alloy,” (NASA Case No. LEW 15,956-2), both of which are assigned to the United States of America as represented by the Administrator of the National Aeronautics and Space Administration.

Written objections to the prospective grant of a license should be sent to NASA Glenn Research Center.

DATES: Responses to this notice must be received by March 14, 2002.

FOR FURTHER INFORMATION CONTACT: Kent N. Stone, Patent Attorney, NASA Glenn Research Center, Mail Stop 500-118, 21000 Brookpark Road, Cleveland, Ohio 44135.

Dated: February 20, 2002.
Robert M. Stephens,
Deputy General Counsel.

[FR Doc. 02-4554 Filed 2-26-02; 8:45 am]

BILLING CODE 7510-01-P